DEPARTMENT OF STATE

[Public Notice: 4911]

30-Day Notice of Proposed Information Collection: Generic Clearance Information Collection for ECA Evaluation Program, OMB No. 1405-XXXX

ACTION: Notice of request for public comment and submission to OMB of proposed collection of information.

SUMMARY: The Department of State has submitted the following information collection request to the Office of Management and Budget (OMB) for approval in accordance with the Paperwork Reduction Act of 1995.

• Title of Information Collection: Generic Clearance Information Collection for ECA Evaluation Program.

• OMB Control Number: 1405-XXXX.

• Type of Request: New collection.

• Originating Office: Bureau of Educational and Cultural Affairs (ECA), Office of Policy and Evaluation (ECA/P).

• Form Number: None.

• Respondents: Respondents of program evaluation and/or program monitoring activities under the proposed information collection may include U.S. and foreign applicants, current grantee exchange visitor participants (J-1 visa holders) and alumni of the Bureau of Educational and Cultural Affairs (ECA) exchange programs, domestic grantee organizations and program administrators, foreign partner organizations, U.S. and foreign hosts of exchange visitor participants, and other similar types of respondents associated with ECA exchange programs.

• Estimated Number of Respondents: 2,617.

• Estimated Number of Responses: 2,167.

• Average Hours Per Response: 45 minutes.

• Total Estimated Burden: 1,962.

• Frequency: Information may be collected annually, on occasion, and per evaluation project.

• Obligation to Respond: Voluntary.

DATES: Comments may be submitted to the Office of Management and Budget (OMB) for up to 30 days from November 30, 2004.

ADDRESSES: Comments and questions should be directed to Alex Hunt, the State Department Desk Officer in Office of Information and Regulatory Affairs at the Office of Management and Budget (OMB), who may be reached on 202-395-7860. You may submit comments by any of the following methods:

• E-mail: ahunt@omb.eop.gov. You must include the DS form number (if applicable), information collection title, and OMB control number in the subject line of your message.

• Hand Delivery or Courier: OIRA State Department Desk Officer, Office of Management and Budget, 725 17th Street, NW., Washington, DC 20503.

• Fax: 202-395-6974.

FOR FURTHER INFORMATION CONTACT: Copies of the proposed information collection and supporting documents may be obtained from Tamara L. Martin, U.S. Department of State, Bureau of Educational and Cultural Affairs, Office of Policy and Evaluation (ECA/P), 301 4th Street, SW., Room 336 (SA-44), Washington, DC 20547, who may be reached on (202) 205-1975, or via e-mail at MartinTL1@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection: The information collection will facilitate the Bureau of Educational and Cultural Affairs' (ECA) ability to regularly collect critical and timely feedback data from a defined universe of respondents (customer base). The evaluation and performance measurement data obtained through the information collection will allow ECA to better assess and improve ECA's exchange programs, learn more about the results and effectiveness of ECA programs, and comply with reporting requirements established by Congress and the Office of Management and Budget. ECA's exchange programs are critical to the Department of State's foreign policy mission and public diplomacy strategy as they are designed to help promote a balanced and accurate view of the United States and build partnerships around the world.

Methodology: Data collected through the information collection will be derived from customer/respondent paper, electronic and on-line surveys, personal interviews and/or focus groups. The customer/respondent base includes applicants, participants, alumni, program administrators, hosts and grantee organizations involved in ECA exchange programs.

Dated: November 8, 2004.
Cathy Chikes,
Executive Director, Bureau of Educational and Cultural Affairs, Department of State.

[FR Doc. 04-26408 Filed 11-29-04; 8:45 am]

BILLING CODE 4710-05-P